DEPARTMENT OF ENERGY

Federal Energy Regulatory Commission

Combined Notice of Filings #1

Take notice that the Commission received the following exempt wholesale generator filings:

Docket Numbers: EG24-153-000.

Applicants: Furry Creek Power Ltd.

Description: Furry Creek Power Ltd. submits Notice of Self-Certification of Exempt Wholesale Generator Status.

Filed Date: 3/28/24.

Accession Number: 20240328-5110.

Comment Date: 5 p.m. ET 4/18/24.

Docket Numbers: EG24-154-000.

Applicants: McNair Creek Hydro Limited Partnership.

Description: McNair Creek Hydro Limited Partnership submits Notice of Self-Certification of Exempt Wholesale Generator Status.

Filed Date: 3/28/24.

Accession Number: 20240328-5117.

Comment Date: 5 p.m. ET 4/18/24.

Take notice that the Commission received the following electric rate filings:

Docket Numbers: ER24-1071-001.

Applicants: Consumers Energy Company.

Description: Tariff Amendment: Amended Contract-RS with Alpena Pwr. Co. & Notice of Cancellation (ER24-1071-) to be effective 4/1/2024.

Filed Date: 3/28/24.

Accession Number: 20240328-5083.

Comment Date: 5 p.m. ET 4/18/24.

Docket Numbers: ER24-1164-001.

Applicants: American Electric Power Service Corporation, PJM Interconnection, L.L.C.

Description: Tariff Amendment: American Electric Power Service Corporation submits tariff filing per 35.17(b): Amendment to ILDSA, SA No. 5120 to be effective 4/1/2024.

Filed Date: 3/28/24.

Accession Number: 20240328-5241.

Comment Date: 5 p.m. ET 4/18/24.

Docket Numbers: ER24-1616-001.

Applicants: PJM Interconnection, L.L.C.

Description: Tariff Amendment: AMD of Notice of Cancellation WMPA, SA No. 6847; AF2-102 to be effective 5/27/2024.

Filed Date: 3/28/24.

Accession Number: 20240328-5192.

Comment Date: 5 p.m. ET 4/18/24.

Docket Numbers: ER24-1631-000.

Applicants: Duquesne Light Company, PJM Interconnection, L.L.C.

Description: 205(d) Rate Filing: Duquesne Light Company submits tariff filing per 35.13(a)(2)(iii: Duquesne submits Interconnection Agreement, Service Agreement No. 6648 to be effective 5/31/2024.

Filed Date: 3/28/24.

Accession Number: 20240328-5075.

Comment Date: 5 p.m. ET 4/18/24.

Docket Numbers: ER24-1632-000.

Applicants: PJM Interconnection, L.L.C.

Description: 205(d) Rate Filing: Ministerial Revisions to PJM Tariff, Attachment Q to be effective 10/28/2023.

Filed Date: 3/28/24.

Accession Number: 20240328-5077.

Comment Date: 5 p.m. ET 4/18/24.

Docket Numbers: ER24-1633-000.

Applicants: Mississippi Power Company.

Description: 205(d) Rate Filing: Modifications to the Gulf States TFA to be effective 5/28/2024.

Filed Date: 3/28/24.

Accession Number: 20240328-5085.

Comment Date: 5 p.m. ET 4/18/24.

Docket Numbers: ER24-1634-000.

Applicants: Midcontinent Independent System Operator, Inc., Entergy Services, LLC.

Description: 205(d) Rate Filing: Midcontinent Independent System Operator, Inc. submits tariff filing per 35.13(a)(2)(iii: 2024-03-28_Entergy Companies Attachment O Clean Up to be effective 6/1/2024.

Filed Date: 3/28/24.

Accession Number: 20240328-5089.

Comment Date: 5 p.m. ET 4/18/24.

Docket Numbers: ER24-1635-000.

Applicants: Southern California Edison Company.

Description: 205(d) Rate Filing: LGIA, Sapphire Solar (TOT976/SA No. 309) to be effective 3/29/2024.

Filed Date: 3/28/24.

Accession Number: 20240328-5111.

Comment Date: 5 p.m. ET 4/18/24.

Docket Numbers: ER24-1636-000.

Applicants: Midcontinent Independent System Operator, Inc.

Description: 205(d) Rate Filing: 2024-03-28_Attachment MM True-up for ATC, MRES, & OTP to be effective 6/1/2024.

Filed Date: 3/28/24.

Accession Number: 20240328-5141.

Comment Date: 5 p.m. ET 4/18/24.

Docket Numbers: ER24-1637-000.

Applicants: Tri-State Generation and Transmission Association, Inc.

Description: 205(d) Rate Filing: Amendment to Rate Schedule FERC No. 29 to be effective 5/28/2024.

Filed Date: 3/28/24.

Accession Number: 20240328-5157.

Comment Date: 5 p.m. ET 4/18/24.

Take notice that the Commission received the following electric securities filings:

Docket Numbers: ES24-27-000.

Applicants: NextEra Energy Transmission MidAtlantic, Inc.

Description: Application Under Section 204 of the Federal Power Act for Authorization to Issue Securities of NextEra Energy Transmission MidAtlantic, Inc.

Filed Date: 3/27/24.

Accession Number: 20240327-5300.

Comment Date: 5 p.m. ET 4/17/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 28, 2024.
Debbie-Anne A. Reese,
Acting Secretary.

[FR Doc. 2024-07047 Filed 4-2-24; 8:45 am]

BILLING CODE 6717-01-P